COMMITTEE FOR PURCHASE FROM PEOPLE WHO ARE BLIND OR SEVERELY DISABLED

Procurement List Proposed Additions and Deletions

AGENCY: Committee for Purchase from People Who Are Blind or Severely Disabled.

ACTION: Proposed Additions to and Deletions from Procurement List.

SUMMARY: The Committee is proposing to add to the Procurement List a product to be furnished by nonprofit agencies employing persons who are blind or have other severe disabilities, and to delete products and services previously furnished by such agencies.

Comments Must Be Received On Or Before: June 3, 2007.

ADDRESSES: Committee for Purchase From People Who Are Blind or Severely Disabled, 1421 Jefferson Davis Highway, Arlington, Virginia 22202.

Additions

If the Committee approves the proposed addition, the entities of the Federal Government identified in this notice for the product will be required to procure the product listed below from nonprofit agencies employing persons who are blind or have other severe disabilities.

Regulatory Flexibility Act Certification

I certify that the following action will not have a significant impact on a substantial number of small entities. The major factors considered for this certification were:

1. If approved, the action will not result in any additional reporting, recordkeeping or other compliance requirements for small entities other than the small organizations that will furnish the product to the Government.

2. If approved, the action will result in authorizing small entities to furnish the product to the Government.

3. There are no known regulatory alternatives which would accomplish the objectives of the Javits-Wagner-O'Day Act (41 U.S.C. 46-48c) in connection with the product proposed for addition to the Procurement List.

Comments on this certification are invited. Commenters should identify the statement(s) underlying the certification on which they are providing additional information.

End of Certification

The following product is proposed for addition to Procurement List for production by the nonprofit agency listed:

Product: Binder, Loose-leaf.

NSNs:

7510-00-530-8881—Black, 2″ Capacity for 8 ½ x 11″ sheets, Turned Edge.

7510-01-203-8814—White, 2″ Capacity, view binder for 8½ x 11″ sheets.

7510-01-278-4130—Black, 2″ Capacity for 8 ½ x 11″ sheets.

7510-01-283-5274—Black, ½″ Capacity view binder for 8½ x 11″ sheets.

7510-01-425-6139—Red, ½″ Capacity, view binder for 8½ x 11″ sheets.

7510-00-281-6180—Black, 1″ Capacity for 8 ½ x 11″ sheets, Turned Edge.

Coverage: A-list—for the total Government requirement as specified by the General Services Administration.

NPA: South Texas Lighthouse for the Blind, Corpus Christi, TX.

Contracting Activity: General Services Administration, Region 2, New York, NY.

Deletions:

Regulatory Flexibility Act Certification

I certify that the following action will not have a significant impact on a substantial number of small entities. The major factors considered for this certification were:

1. If approved, the action may result in additional reporting, recordkeeping or other compliance requirements for small entities.

2. If approved, the action may result in authorizing small entities to furnish the products and services to the Government.

3. There are no known regulatory alternatives which would accomplish the objectives of the Javits-Wagner-O'Day Act (41 U.S.C. 46-48c) in connection with the products and services proposed for deletion from the Procurement List.

End of Certification

The following products and services are proposed for deletion from the Procurement List:

Products: Innerspring Mattress Rehabilitation (w/handles).

NSNs:

7699 GRP I Hndl—Less than 36.

7699 GRP II Hndl—36.

7699 GRP III Hnd—Over 41.

7699 GRP IV Hndl—Over 49

Innerspring Mattress Rehabilitation (w/o handles)

NSNs:

7699 GRP I w/o—Less than 36.

7699 GRP II w/o—36.

7699 GRP III w/o—Over 41.

7699 GRP IV w/o—Over 49.

NPAs:

Georgia Industries for the Blind, Bainbridge, GA.

Mississippi Industries for the Blind, Jackson, MS.

L.C. Industries for the Blind, Inc., Durham, NC.

Virginia Industries for the Blind, Charlottesville, VA.

Lions Volunteer Blind Industries, Inc., Morristown, TN.

Winston-Salem Industries for the Blind, Winston-Salem, NC.

Winston-Salem Industries for the Blind, Winston-Salem, NC at its facility in Asheville, North Carolina.

Contracting Activity: GSA, Global Supply Center, Fort Worth, TX.

Services:

Service Type/Location:

Janitorial/Custodial, Iowa Air National Guard (185th Air National Guard Base), Sioux Gateway Airport, Sioux City, IA.

NPA: Goodwill Community Rehabilitation Services, Inc., Sioux City, IA.

Contracting Activity: Department of the Air Force.

Service Type/Location:

Janitorial/Custodial, U.S. Army Reserve Center (Middletown), Middletown, CT.

NPA: Allied Community Services, Inc., Enfield, CT.

Contracting Activity: Department of the Army, Devens Reserve Forces, MA.

Service Type/Location:

Laundry Service, U.S. Air Force Academy (Cadet Dining Hall), Colorado Springs, CO.

NPA: Goodwill Industrial Services Corporation, Colorado Springs, CO.

Contracting Activity: Department of the Air Force.

Service Type/Location:

Janitorial/Custodial, Austin Straubel International Airport (ATCT and Base Building), Green Bay, WI.

NPA: ASPIRO, Inc., Green Bay, WI.

Contracting Activity: Federal Aviation Administration, Des Plaines, IL.

Patrick Rowe,
Deputy Executive Director.

[FR Doc. E7-8511 Filed 5-3-07; 8:45 am]

BILLING CODE 6353-01-P